DEPARTMENT OF AGRICULTURE

Rural Business-Cooperative Service

[Docket #: RBS-CO-OP-0026]

Inviting Applications for Rural Cooperative Development Grants; Correction

AGENCY: Rural Business-Cooperative Service, Agriculture (USDA).

ACTION: Notice of funding availability; correction.

SUMMARY: The Rural Business-Cooperative Service, USDA published a notice in the Federal Register on July 2, 2020, that the Agency is accepting fiscal year (FY) 2020 applications for the Rural Cooperative Development Grant (RCDG). This document inadvertently referenced an incorrect application submission deadline in the Submission Date and Time and the Application Review Information sections and corrected references to an Office of Budget Memorandum.

FOR FURTHER INFORMATION CONTACT: Natalie Melton, Program Management Division, Rural Business-Cooperative Service, United States Department of Agriculture, 1400 Independence Avenue SW, Mail Stop-3226, Room 4204-South, Washington, DC 20250-3226, (202) 720-1400 or email CPgrants@usda.gov.

SUPPLEMENTARY INFORMATION:

Correction

(1) In the Federal Register of July 2, 2020, in FR Doc. 2020-14286, on page 39875, in the third column, section “4. Submission Date and Time”, correct the first sentence to read:

4. Submission Date and Time

Explanation of Deadline: Completed applications must be submitted electronically by no later than midnight Eastern Time, August 3, 2020, through Grants.gov, to be eligible for grant funding.

(2) In the Federal Register of July 2, 2020, in FR Doc. 2020-14286, on page 39877, in the second column, correct the first sentence to read:

A panel of USDA employees will evaluate your demonstrated past performance in establishing legal cooperative business entities and other legal business entities during October 1, 2015-August 3, 2020.

(3) In the Federal Register of July 2, 2020, in FR Doc. 2020-14286, on page 39871, in the first column, section “COVID-19 Administrative Relief Exceptions”, correct the first sentence to read:

COVID-19 Administrative Relief Exceptions: The Agency reviewed the Office of Budget and Management's (OMB) M-20-26 memorandum “Extension of Administrative Relief for Recipients and Applicants of Federal Financial Assistance Directly Impacted by the Novel Coronavirus (COVID-19) due to Loss of Operations”, and OMB M-20-11, “Administrative Relief for Recipients and Applicants of Federal Financial Assistance directly impacted by the novel coronavirus (COVID-19)”, cited and referenced by M-20-26 and has made every attempt to reduce administrative burden within our authority. Any reduction in burden will be discussed within the requirement.

(4) In the Federal Register of July 2, 2020, in FR Doc. 2020-14286, on page 39873, first column, second paragraph, replace the reference to OMB Memoranda M-20-17 with OMB Memoranda M-20-26.

(5) In the Federal Register of July 2, 2020, in FR Doc. 2020-14286, on page 39873, second column, first paragraph, replace the reference to OMB Memoranda M-20-17 with OMB Memoranda M-20-26.

(6) In the Federal Register of July 2, 2020, in FR Doc. 2020-14286, on page 39873, third column, section “c. Clarifications on Forms”, in the fourth sentence, replace the reference to OMB Memoranda M-20-17 with OMB Memoranda M-20-26.

(7) In the Federal Register of July 2, 2020, in FR Doc. 2020-14286, on page 39875, third column, section (c), second paragraph, replace the reference to OMB Memoranda M-20-17 with OMB Memoranda M-20-26.

Mark Brodziski,
Acting Administrator, Rural Business-Cooperative Service.

[FR Doc. 2020-14848 Filed 7-13-20; 8:45 am]

BILLING CODE P